DEPARTMENT OF ENERGY

Federal Energy Regulatory Commission

Combined Notice of Filings #1

Take notice that the Commission received the following electric corporate filings:

Docket Numbers: EC17-99-000.

Applicants: Perigee Energy, LLC.

Description: Application For Authorization Under Section 203 Of The Federal Power Act And Requests For Waivers Of Filing Requirements And For Privileged And Confidential Treatment of Perigee Energy, LLC.

Filed Date: 3/30/17.

Accession Number: 20170330-5359.

Comments Due: 5 p.m. ET 4/20/17.

Take notice that the Commission received the following exempt wholesale generator filings:

Docket Numbers: EG17-87-000.

Applicants: Callahan Wind Divide, LLC.

Description: Notice of Self-Certification of Exempt Wholesale Generator Status of Callahan Wind Divide, LLC.

Filed Date: 3/31/17.

Accession Number: 20170331-5279.

Comments Due: 5 p.m. ET 4/21/17.

Docket Numbers: EG17-88-000.

Applicants: Horse Hollow Wind I, LLC.

Description: Notice of Self-Certification of Exempt Wholesale Generator Status of Horse Hollow Wind I, LLC.

Filed Date: 3/31/17.

Accession Number: 20170331-5280.

Comments Due: 5 p.m. ET 4/21/17.

Take notice that the Commission received the following electric rate filings:

Docket Numbers: ER11-4338-003.

Applicants: New York Independent System Operator, Inc.

Description: Compliance filing: Compliance of effective date notice re: Order No. 745 Demand Response to be effective 4/7/2015.

Filed Date: 3/31/17.

Accession Number: 20170331-5185.

Comments Due: 5 p.m. ET 4/21/17.

Docket Numbers: ER16-2360-003.

Applicants: Great Western Wind Energy, LLC.

Description: Notice of Non-Material Change in Status of Great Western Wind Energy, LLC.

Filed Date: 3/30/17.

Accession Number: 20170330-5363.

Comments Due: 5 p.m. ET 4/20/17.

Docket Numbers: ER17-734-001.

Applicants: Entergy Louisiana Power, LLC.

Description: Tariff Amendment: Cancellation of CID to be effective 12/31/9998.

Filed Date: 3/30/17.

Accession Number: 20170330-5305.

Comments Due: 5 p.m. ET 4/20/17.

Docket Numbers: ER17-1350-000.

Applicants: Entergy Louisiana, LLC.

Description: § 205(d) Rate Filing: ELL-SRMPA 13th Extension of Interim Agreement to be effective 4/1/2017.

Filed Date: 3/30/17.

Accession Number: 20170330-5304.

Comments Due: 5 p.m. ET 4/20/17.

Docket Numbers: ER17-1351-000.

Applicants: Scrubgrass Generating Company, L.P.

Description: § 205(d) Rate Filing: CIS re Q Power to be effective 3/31/2017.

Filed Date: 3/30/17.

Accession Number: 20170330-5308.

Comments Due: 5 p.m. ET 4/20/17.

Docket Numbers: ER17-1352-000.

Applicants: Southwest Power Pool, Inc.

Description: § 205(d) Rate Filing: 1276R13 Kansas City Power & Light Company NITSA and NOA to be effective 3/1/2017.

Filed Date: 3/30/17.

Accession Number: 20170330-5322.

Comments Due: 5 p.m. ET 4/20/17.

Docket Numbers: ER17-1353-000.

Applicants: PJM Interconnection, L.L.C., Pennsylvania Electric Company, Mid-Atlantic Interstate Transmission, LL.

Description: § 205(d) Rate Filing: MAIT and Penelec submit engineering and construction services agreement No. 4558 to be effective 4/1/2017.

Filed Date: 3/30/17.

Accession Number: 20170330-5336.

Comments Due: 5 p.m. ET 4/20/17.

Docket Numbers: ER17-1354-000.

Applicants: Consolidated Edison Company of New York, Inc.

Description: § 205(d) Rate Filing: Clean Energy Surcharge to be effective 4/1/2017.

Filed Date: 3/31/17.

Accession Number: 20170331-5001.

Comments Due: 5 p.m. ET 4/21/17.

Docket Numbers: ER17-1355-000.

Applicants: AEP Texas Inc.

Description: § 205(d) Rate Filing: AEP TX—Texas-New Mexico Power Interconnection Agreement to be effective 3/15/2017.

Filed Date: 3/31/17.

Accession Number: 20170331-5105.

Comments Due: 5 p.m. ET 4/21/17.

Docket Numbers: ER17-1356-000.

Applicants: AEP Texas Inc.

Description: § 205(d) Rate Filing: AEP TX—RES Cactus Flats Wind Interconnection Agreement to be effective 3/15/2017.

Filed Date: 3/31/17.

Accession Number: 20170331-5108.

Comments Due: 5 p.m. ET 4/21/17.

Docket Numbers: ER17-1357-000.

Applicants: Duke Energy Progress, LLC, Duke Energy Carolinas, LLC.

Description: § 205(d) Rate Filing: Joint OATT DEP and DEC Real Power Loss Factor Filing to be effective 6/1/2017.

Filed Date: 3/31/17.

Accession Number: 20170331-5127.

Comments Due: 5 p.m. ET 4/21/17.

Docket Numbers: ER17-1358-000.

Applicants: PJM Interconnection, L.L.C.

Description: § 205(d) Rate Filing: Amendment to Service Agreement No. 4608; Queue No. AB1-027 to be effective 1/4/2017.

Filed Date: 3/31/17.

Accession Number: 20170331-5192.

Comments Due: 5 p.m. ET 4/21/17.

Docket Numbers: ER17-1359-000.

Applicants: Avista Corporation.

Description: Notice of Termination of Transmission Service Agreement No. T1082-5 of Avista Corporation.

Filed Date: 3/31/17.

Accession Number: 20170331-5207.

Comments Due: 5 p.m. ET 4/21/17.

Docket Numbers: ER17-1360-000.

Applicants: Midcontinent Independent System Operator, Inc.

Description: § 205(d) Rate Filing: 2017-03-31_SA 2931 ATC-Wisconsin Power & Light Amended E&P (J390) to be effective 3/30/2017.

Filed Date: 3/31/17.

Accession Number: 20170331-5241.

Comments Due: 5 p.m. ET 4/21/17.

Docket Numbers: ER17-1361-000.

Applicants: Public Service Company of New Mexico.

Description: § 205(d) Rate Filing: Annual Real Power Loss Factor Filing for 2017 to be effective 6/1/2017.

Filed Date: 3/31/17.

Accession Number: 20170331-5261.

Comments Due: 5 p.m. ET 4/21/17.

Take notice that the Commission received the following electric securities filings:

Docket Numbers: ES17-15-000.

Applicants: ISO New England Inc.

Description: ISO New England Inc. Application Under Section 204 of the Federal Power Act for an Order Authorizing Future Drawdowns Under Existing Authorized Securities.

Filed Date: 3/31/17.

Accession Number: 20170331-5166.

Comments Due: 5 p.m. ET 4/21/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2017.
Kimberly D. Bose,
Secretary.

[FR Doc. 2017-06841 Filed 4-5-17; 8:45 am]

BILLING CODE 6717-01-P